DEPARTMENT OF HEALTH AND HUMAN SERVICES

National Institutes of Health

Proposed Collection; 60-Day Comment Request; Collection of Grants and Contracts Data the Historically Black Colleges and Universities (HBCUS) and Small Businesses May Be Interested in Pursuing, (Office of the Director)

AGENCY: National Institutes of Health, HHS.

ACTION: Notice.

SUMMARY: In compliance with the requirement of the Paperwork Reduction Act of 1995 to provide opportunity for public comment on proposed data collection projects, the National Institutes of Health, Office of the Director, Office of Acquisitions and Logistics Management (OALM), Small Business Program Office (SBPO), will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Rachel Kenlaw, Program Analyst, NIH, Office of the Director, Office of Acquisitions and Logistics Management, Small Business Program Office, 6100 Executive Blvd., Suite 6E01G, Rockville, MD 20852, or call non-toll-free number (301) 451-6827 or Email your request, including your address to: Rachel.Kenlaw@nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Collection of Grants and Contracts data the Historically Black Colleges and Universities (HBCUs) and small businesses may be interested in pursuing, 0925-NEW, exp., date, XX/XX/XXXX, Office of the Director, Office of Acquisitions and Logistics Management, Small Business Program Office, National Institutes of Health.

Need and Use of Information Collection: Presidential Executive Order 13779 is the White House Initiative to Promote Excellence and Innovation at Historically Black Colleges and Universities. Through this initiative, Federal agencies are mandated to assist in strengthening HBCU's ability for equitable participation in Federal programs and explore new ways to improve the relationship between the Federal Government and Historically Black Colleges and Universities. This initiative will establish how the agency intends to increase the capacity of Historically Black Colleges and Universities to compete effectively for grants and contracts.

The Path to Excellence and Innovation is a comprehensive plan to expand the existing National Institutes of Health Small Business Program in the Office of Acquisition and Logistics Management. The Path to Excellence provides a platform for increased transparency between Historically Black Colleges and Universities and the Federal Government through the provision of outreach events, training opportunities and one-on-one assistance. There are six pilot schools and each school has chosen one or more small business teaming partner(s) to support their effort in this pilot program. Through the collection of this information the National Institutes of Health Small Business Program Office will gain insight into what government grants and contracts are of interest to Historically Black Colleges and Universities and small businesses. This information will support the initiative to help Historically Black Colleges and Universities and small businesses because this tool aids them to be more knowledgeable about what opportunities regarding grants and contracts exist for their organization.

OMB approval is requested for 3 years. There are no costs to respondents other than their time. The total estimated annualized burden hours are 22.

Estimated Annualized Burden Hours
Type of respondent | Number of respondents | Number of responses per respondent | Average burden hours per response | Total annual burden hours
HBCU Pre-Solicitation Portal for Contracts and Grants | 13 | 10 | 10/60 | 22
Total |  | 130 |  | 22

Dated: October 24, 2019.
Lawrence A. Tabak,
Principal Deputy Director, National Institutes of Health.

[FR Doc. 2019-23681 Filed 10-29-19; 8:45 am]

BILLING CODE 4140-01-P